DEPARTMENT OF THE INTERIOR

National Park Service

[1730-SZM]

Cape Cod National Seashore, South Wellfleet, MA; Cape Cod National Seashore Advisory Commission

AGENCY: National Park Service, Interior.

ACTION: Two Hundred Seventy-Seventh Notice of Meeting.

SUMMARY: Notice is hereby given in accordance with the Federal Advisory Committee Act (Pub. L. 92-463, 86 Stat. 770, 5 U.S.C. App 1, Section 10) of a meeting of the Cape Cod National Seashore Advisory Commission.

DATES: The meeting of the Cape Cod National Seashore Advisory Commission will be held on January 10, 2010, at 1 p.m.

ADDRESSES: The Commission members will meet in the meeting room at Headquarters, 99 Marconi Station, Wellfleet, Massachusetts.

SUPPLEMENTARY INFORMATION: The Commission was reestablished pursuant to Public Law 87-126 as amended by Public Law 105-280. The purpose of the Commission is to consult with the Secretary of the Interior, or his designee, with respect to matters relating to the development of Cape Cod National Seashore, and with respect to carrying out the provisions of sections 4 and 5 of the Act establishing the Seashore.

The regular business meeting is being held to discuss the following:

1. Adoption of Agenda.

2. Approval of Minutes of Previous Meeting (November 15, 2010).

3. Reports of Officers.

4. Reports of Subcommittees.

5. Superintendent's Report. Update on Dune Shacks. Improved Properties/Town Bylaws. Herring River Wetland Restoration. Wind Turbines/Cell Towers. Flexible Shorebird Management. Highlands Center Update. Alternate Transportation funding. Ocean stewardship topics. Climate Friendly Park program update. 50th Anniversary.

6. Old Business.

7. New Business. Cape Cod Commission review of herbicide use. Regional waste water treatment plans.

8. Date and agenda for next meeting.

9. Public comment; and

10. Adjournment.

The meeting is open to the public. It is expected that 15 persons will be able to attend the meeting in addition to Commission members.

Interested persons may make oral/written presentations to the Commission during the business meeting or file written statements. Such requests should be made to the park superintendent prior to the meeting. Before including your address, phone number, e-mail address, or other personal identifying information in your comment, you should be aware that your entire comment—including your personal identifying information—may be made publicly available at any time. While you can ask us in your comment to withhold your personal identifying information from public review, we cannot guarantee that we will be able to do so.

FOR FURTHER INFORMATION CONTACT: Further information concerning the meeting may be obtained from the Superintendent, Cape Cod National Seashore, 99 Marconi Site Road, Wellfleet, MA 02667.

Dated: November 30, 2010.
George E. Price, Jr.,
Superintendent.

[FR Doc. 2010-31309 Filed 12-13-10; 8:45 am]

BILLING CODE 4310-WV-P